FEDERAL COMMUNICATIONS COMMISSION

47 CFR Part 73

[DA 01-2907; MM Docket Nos. 01-340, 01-341, 01-342, 01-343; RM-10345, RM-10346, RM-10347, RM-10348]

Radio Broadcasting Services; Pierce, NE; Coosada, AL; Pineview, GA; and Diamond Lake, OR

AGENCY: Federal Communications Commission.

ACTION: Proposed rule.

SUMMARY: The Commission seeks comment on proposals in four separate docketed proceedings in a multiple docket Notice of Proposed Rule Making. The first, filed by Pierce Radio, LLC, proposes to allot Channel 248C2 at Pierce, Nebraska as the community's first local aural transmission service. Channel 248C2 can be allotted at Pierce at a site 5 kilometers (3.1 miles) east of the community at coordinates 42-11-30 NL and 97-28-00 WL. The second, filed by Media Equities Corp., proposes to allot Channel 226A at Coosada, Alabama, as the community's first local aural transmission service. Channel 226A can be allotted at Coosada at a site 14 kilometers (8.7 miles) southeast of the community at coordinates 32-26-58 NL and 86-11-38 WL. The third, filed by Data+Corp., proposes the allotment of Channel 226A at Pineview, Georgia as the community's first local aural transmission service. Channel 226A can be allotted at Pineview at a site 8.4 kilometers (5.3 miles) southeast of the community at coordinates 32-00-44 NL and 83-28-19 WL. The fourth, filed by Robert W. Larson, proposes the allotment of Channel 299A at Diamond Lake as the community's first local aural transmission service. Channel 299A can be allotted at Diamond Lake without a site restriction at coordinates 43-10-44 NL and 122-8-16 WL. See SUPPLEMENTARY INFORMATION.

DATES: Comments must be filed on or before February 4, 2002, and reply comments must be filed on or before February 19, 2002.

FOR FURTHER INFORMATION CONTACT: Victoria M. McCauley, Mass Media Bureau, (202) 418-2180.

SUPPLEMENTARY INFORMATION: This is a synopsis of the Commission's Notice of Proposed Rule Making, MM Docket Nos. 01-340, 01-341, 01-342, 01-343, adopted December 5, 2001, and released December 14, 2001. The full text of this document is available for public inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for Part 73 continues to read as follows:

Authority: 47 U.S.C. 154, 303, 334, and 336.

2. Section 73.202(b), the Table of FM Allotments under Nebraska, is amended by adding Pierce, Channel 248C2.

3. Section 73.202(b), the Table of FM Allotments under Alabama, is amended by adding Coosada, Channel 226A.

4. Section 73.202(b), the Table of FM Allotments under Georgia, is amended by adding Pineview, Channel 226A.

5. Section 73.202(b), the Table of FM Allotments under Oregon, is amended by adding Diamond Lake, Channel 299A.

Federal Communications Commission.
John A. Karousos,
Chief, Allocations Branch, Policy and Rules Division, Mass Media Bureau.

[FR Doc. 02-370 Filed 1-7-02; 8:45 am]

BILLING CODE 6712-01-P